DEPARTMENT OF THE TREASURY

Submission for OMB Review; Comment Request

May 24, 2016.

The Department of the Treasury will submit the following information collection requests to the Office of Management and Budget (OMB) for review and clearance in accordance with the Paperwork Reduction Act of 1995, Public Law 104-13, on or after the date of publication of this notice.

DATES: Comments should be received on or before June 27, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Alcohol and Tobacco Tax and Trade Bureau (TTB)

OMB Control Number: 1513-0093.

Type of Review: Revision of a currently approved collection.

Title: Supporting Data for Nonbeverage Drawback Claims.

Form: TTB F 5600.38.

Abstract: TTB uses the information collected on form TTB F 5600.38 to determine if a taxpayer meets the criteria to be granted an extension of the time period to make their tax payment because of circumstances beyond the taxpayer's control. TTB is increasing the estimated number of respondents and the resulting total annual burden hours associated with this information collection due to an increase in the number of industry members requesting an extension of time for payment of tax.

Affected Public: Businesses or other for-profits.

Estimated Total Annual Burden Hours: 8.

OMB Control Number: 1513-0098.

Type of Review: Revision of a currently approved collection.

Title: Record of Operations—Importer of Tobacco Products or Processed Tobacco.

Form: TTB F 5451.2.

Abstract: Manufacturers of nonbeverage alcohol products use TTB F 5451.2 to submit the data required to support claims for drawback of Federal alcohol excise taxes. TTB uses the data collected on this form to verify claims for drawback of taxes and, hence, to protect the revenue. This form is used to verify that all distilled spirits can be accounted for and that drawback is paid only in the amount prescribed by law. TTB is decreasing the estimated number of respondents and the resulting total annual burden hours associated with this information collection due to a decrease in the number of drawback claims TTB receives.

Affected Public: Businesses or other for-profits.

Estimated Total Annual Burden Hours: 2,272.

OMB Control Number: 1513-0106.

Type of Review: Revision of a currently approved collection.

Title: Application, Permit and Report—Wine and Beer (Puerto Rico), and Application, Permit and Report—Distilled Spirits Products (Puerto Rico).

Abstract: Under the authority of the Internal Revenue Code at 26 U.S.C. 5741, the TTB regulations require importers of tobacco products or processed tobacco to maintain records of physical receipts and disposition of tobacco products or processed tobacco. The respondents use these usual and customary business records to prepare TTB Form 5220.6, Monthly Report—Tobacco Products or Processed Tobacco (approved under OMB control number 1513-0107). TTB is decreasing the estimated number of respondents to reflect a decrease in the number of importers of tobacco products or processed tobacco regulated by TTB.

Affected Public: Businesses or other for-profits.

Estimated Total Annual Burden Hours: 1.

Brenda Simms,
Treasury PRA Clearance Officer.

[FR Doc. 2016-12626 Filed 5-26-16; 8:45 am]

BILLING CODE 4810-31-P